DEPARTMENT OF COMMERCE

Patent and Trademark Office

Agency Information Collection Activities; Submission to the Office of Management and Budget (OMB) for Review and Approval; Comment Request; Public Search Facility User ID and Badging

AGENCY: United States Patent and Trademark Office, Department of Commerce.

ACTION: Notice of information collection; request for comment.

SUMMARY: The United States Patent and Trademark Office (USPTO), as required by the Paperwork Reduction Act of 1995, invites comments on the extension and revision of an existing information collection: 0651-0041 (Public Search Facility User ID and Badging). The purpose of this notice is to allow 60 days for public comment preceding submission of the information collection to OMB.

DATES: To ensure consideration, comments regarding this information collection must be received on or before July 12, 2024.

ADDRESSES: Interested persons are invited to submit written comments by any of the following methods. Do not submit Confidential Business Information or otherwise sensitive or protected information.

• Email: InformationCollection@uspto.gov. Include “0651-0041 comment” in the subject line of the message.

• Federal eRulemaking Portal: http://www.regulations.gov.

• Mail: Justin Isaac, Office of the Chief Administrative Officer, United States Patent and Trademark Office, P.O. Box 1450, Alexandria, VA 22313-1450.

FOR FURTHER INFORMATION CONTACT: Requests for additional information should be directed to Chad Hyland, Director, Security Division, United States Patent and Trademark Office, P.O. Box 1450, Alexandria, VA 22313-1450; by telephone at 571-272-2978; or by email at Chad.Hyland@uspto.gov with “0651-0041 comment” in the subject line. Additional information about this information collection is also available at http://www.reginfo.gov under “Information Collection Review.”

SUPPLEMENTARY INFORMATION:

I. Abstract

The United States Patent and Trademark Office (USPTO) is required by 35 U.S.C 41(i)(1) to maintain a Public Search Facility to make publicly accessible USPTO patent and trademark collections for search and retrieval. The Public Search Facility is located in a publicly accessible portion of USPTO headquarters in Alexandria, Virginia, and offers the public access to the collection's paper, microfilm, and electronic files and trained staff to assist users with searches.

This information collection covers the application used to establish, renew, or replace security identification badges issued to members of the public who wish to access the Public Search Facility. Users can apply for a security badge in-person at the USPTO Security Office by providing the necessary information and presenting a valid form of photo identification. The issued security badges include a color photograph of the user and must be worn at all times while within the USPTO facility. Issued badges are valid for one year and can be renewed at no cost. Lost badges can be replaced at a cost of $15. Public users are not required to obtain a security identification badge to access the Public Search Facility. Alternatively, public users can fill out a visitor badge request upon visiting the library. The process for obtaining a visitor badge is exempt from the Paperwork Reduction Act (PRA). The visitor badge must be turned in each time the user leaves the library. Re-entry requires obtaining a new visitor badge. However, using a security identification badge issued to a public user allows that individual to leave and re-enter the library without needing to obtain a visitor badge. Public users only need to obtain either the visitor badge or a security identification badge to enter the Public Search Facility; they do not need both simultaneously.

Previously, the Public Search Facility collected information from the public to establish and maintain accounts for online access to USPTO resources and to register the public for user trainings. Instead of using unique accounts for the Public Search Facility, access is now automatically provided through MyUSPTO accounts. Registrations for training are no longer required as trainings are now provided on demand, via self-service online platforms. As a result, the USPTO is removing the information collection lines for online access accounts and user training registration from this information collection as a part of this renewal.

II. Method of Collection

Items in this information collection must be submitted in writing and in person at the USPTO Security Office.

III. Data

OMB Control Number: 0651-0041.

Forms:

• PTO Form 2030 (Application for Public User ID)

Type of Review: Extension and revision of a currently approved information collection.

Affected Public: Individuals or households.

Respondent's Obligation: Required to obtain or retain benefits.

Estimated Number of Annual Respondents: 60 respondents.

Estimated Number of Annual Responses: 60 responses.

Frequency: On occasion.

Estimated Time per Response: The USPTO estimates that the responses in this information collection will take the public approximately 5 minutes (0.08 hours) to complete. This includes the time to gather the necessary information, prepare the document, and submit the completed request to the USPTO.

Estimated Total Annual Respondent Burden Hours: 6 hours.

Estimated Total Annual Respondent Hourly Cost Burden: $1,710.

Table 1—Total Burden Hours and Hourly Costs to Individual and Household Respondents
Item No. | Item | Estimated annual respondents | Responses per respondent | Estimated annual responses | Estimated time for response (hours) | Estimated burden (hour/year) | Rate ¹ ($/hour) | Estimated annual respondent cost burden
|  | (a) | (b) | (a) × (b) = (c) | (d) | (c) × (d) = (e) | (f) | (e) × (f) = (g)
1 | Application for Public User ID PTO Form 2030 | 60 | 1 | 60 | 0.08 (5 minutes) | 6 | $285 | $1,170
Totals |  | 60 |  | 60 |  | 6 |  | 1,710
¹ A combined rate for attorneys and paralegals/paraprofessionals is used for the security badge items. The USPTO uses the average billing rate for intellectual property work in all firms which is $447 per hour (https://www.aipla.org/home/news-publications/economic-survey. 2023 Report of the Economic Survey, published by the Committee on Economics of Legal Practice of the American Intellectual Property Law Association (AIPLA); pg. F-41.). The USPTO uses the average billing rate for paralegals/paraprofessionals, which is $122 per hour (https://nala.org/paralegal-info/). 2022 National Utilization and Compensation Survey Report published by the National Association of Legal Assistants (NALA); pg. 38.

Estimated Total Annual Respondent Non-hourly Cost Burden: $75. There are no capital start-up, maintenance costs, recordkeeping costs, or postage associated with this information collection. However, the USPTO estimates that the total annual non-hour cost burden in this information collection, in the form of filing fees, is $75.

Filing Fees

Table 2—Filing Fees
Item No. | Item | Estimated annual responses | Filing fee ($) | Non-hourly cost burden
|  | (a) | (b) | (a) × (b) = (c)
1 | Replace Security Identification Badges for Public Users | 5 | $15 | $75
Totals |  | 5 |  | 75

IV. Request for Comments

The USPTO is soliciting public comments to:

(a) Evaluate whether the collection of information is necessary for the proper performance of the functions of the Agency, including whether the information will have practical utility;

(b) Evaluate the accuracy of the Agency's estimate of the burden of the collection of information, including the validity of the methodology and assumptions used;

(c) Enhance the quality, utility, and clarity of the information to be collected; and

(d) Minimize the burden of the collection of information on those who are to respond, including through the use of appropriate automated, electronic, mechanical, or other technological collection techniques or other forms of information technology, e.g., permitting electronic submission of responses.

All comments submitted in response to this notice are a matter of public record. The USPTO will include or summarize each comment in the request to OMB to approve this information collection. Before including an address, phone number, email address, or other personally identifiable information (PII) in a comment, be aware that the entire comment—including PII—may be made publicly available at any time. While you may ask in your comment to withhold PII from public view, the USPTO cannot guarantee that it will be able to do so.

Justin Isaac,
Information Collections Officer, Office of the Chief Administrative Officer, United States Patent and Trademark Office.

[FR Doc. 2024-10396 Filed 5-10-24; 8:45 am]

BILLING CODE 3510-16-P